DEPARTMENT OF HEALTH AND HUMAN SERVICES

Centers for Disease Control and Prevention

[Program Announcement 04194]

Strengthening the Center for Evaluation of Public Health Interventions (CEPHI) in Zimbabwe; Notice of Intent to Fund Single Eligibility Award

A. Purpose

The Centers for Disease Control and Prevention (CDC) announces the intent to fund fiscal year (FY) 2004 funds for a cooperative agreement program to strengthen the capacity for supporting excellence in monitoring and evaluating the public health response to the HIV/AIDS epidemic in Zimbabwe. The Catalog of Federal Domestic Assistance number for this program is 93.283.

B. Eligible Applicant

Assistance will be provided only to the University of Zimbabwe (UZ), with the assistance targeted to the University's School of Medicine. The UZ/CEPHI was established in 2002, with the support of CDC through a cooperative agreement. UZ maintains the only graduate public health training program in the country, and, as such, includes faculty with specific expertise in monitoring and evaluation and in training. UZ also formed an Informatics Unit in 2002, with the support of CDC through a cooperative agreement, which includes computer training facilities, and faculty and staff with expertise in computer application development and utilization of existing applications. This Informatics Unit serves both to support UZ students and faculty, and also as a resource to national programs and organizations. The purpose of this agreement is to build upon the initial successes of these programs, and to support them to function at greater capacity.

Zimbabwe is among the countries in the world most affected by HIV/AIDS: HIV prevalence is estimated to be approximately 25 percent; there has been a ten-fold increase in the number of TB cases; and up to 35 percent of the children may be orphaned by AIDS at the end of this decade. There are increasing amounts of international funds being made available to HIV/AIDS programs in Zimbabwe, such as those from the Global Fund for AIDS, TB and Malaria. These funds also demand high standards of monitoring and evaluation of HIV/AIDS activities. At the same time, the public health response to the epidemic in Zimbabwe is challenged by insufficient manpower and expertise in the Zimbabwe public health system. Support for CEPHI and the associated Informatics Unit aims to enhance training and capacity for monitoring the response to the epidemic as well as to improve efficiency and quality of programs through optimal use of technology.

C. Funding

Approximately $125,000 is available in FY 2004 to fund this award. It is expected that the award will begin on or before July 15, 2004, and will be made for a 12-month budget period within a project period of up to three years. Funding estimates may change.

D. Where to Obtain Additional Information

For general comments or questions about this announcement, contact: Technical Information Management, CDC Procurement and Grants Office, 2920 Brandywine Road, Atlanta, GA 30341-4146, Telephone: 770-488-2700.

For program technical assistance, contact: Shannon Hader, M.D., Director, CDC Zimbabwe, 38 Samora Machel Avenue, Harare, Zimbabwe, Telephone: +263 4 796040, E-mail: haders@zimcdc.co.zw.

For budget assistance, contact: Shirley Wynn, Grants Management Specialist, CDC Procurement and Grants Office, 2920 Brandywine Road, Atlanta, GA 30341, Telephone: 770-488-2696, E-mail: zbx6@cdc.gov.

Dated: May 5, 2004.
William P. Nichols,
Acting Director, Procurement and Grants Office, Centers for Disease Control and Prevention.

[FR Doc. 04-10621 Filed 5-10-04; 8:45 am]

BILLING CODE 4163-18-P